DEPARTMENT OF COMMERCE

National Oceanic and Atmospheric Administration

RIN 0648-XA629

Marine Mammals; File No. 15471-01

AGENCY: National Marine Fisheries Service (NMFS), National Oceanic and Atmospheric Administration (NOAA), Commerce.

ACTION: Notice; receipt of application for permit amendment.

SUMMARY: Notice is hereby given that Michael Adkesson, D.V.M., Chicago Zoological Society, 3300 Golf Rd., Brookfield, Illinois 60527, has applied for an amendment to Scientific Research Permit No. 15471.

DATES: Written, telefaxed, or e-mail comments must be received on or before September 12, 2011.

ADDRESSES: The application and related documents are available for review by selecting “Records Open for Public Comment” from the Features box on the Applications and Permits for Protected Species home page, https://apps.nmfs.noaa.gov, and then selecting File No. 15471-01 from the list of available applications.

These documents are also available upon written request or by appointment in the following office(s):

Permits, Conservation and Education Division, Office of Protected Resources, NMFS, 1315 East-West Highway, Room 13705, Silver Spring, MD 20910; phone (301) 427-8401; fax (301) 713-0376; and

Northeast Region, NMFS, 55 Great Republic Drive, Gloucester, MA 01930; phone (978) 281-9328; fax (978) 281-9394.

Written comments on this application should be submitted to the Chief, Permits, Conservation and Education Division, at the address listed above. Comments may also be submitted by facsimile to (301) 713-0376, or by e-mail to NMFS.Pr1Comments@noaa.gov. Please include File No. 15471-01 in the subject line of the e-mail comment.

Those individuals requesting a public hearing should submit a written request to the Chief, Permits, Conservation and Education Division at the address listed above. The request should set forth the specific reasons why a hearing on this application would be appropriate.

FOR FURTHER INFORMATION CONTACT: Laura Morse or Jennifer Skidmore, (301) 427-8401.

SUPPLEMENTARY INFORMATION: The subject amendment to Permit No. 15471 is requested under the authority of the Marine Mammal Protection Act of 1972, as amended (16 U.S.C. 1361 et seq.), and the regulations governing the taking and importing of marine mammals (50 CFR part 216).

Permit No. 15471 (issued on August 23, 2010; 75 FR 52721), authorizes the permit holder to import biological samples taken for scientific research from South American fur seals (Arctocephalus australis). Unlimited samples from up to 200 salvaged carcasses and live female and pup South American fur seals may be received, imported, or exported annually. No live animals can be harassed or taken, lethally or otherwise, under the permit. The permit expires on August 31, 2015.

The permit holder is requesting the permit be amended to increase the total number of individuals and include samples from male South American fur seals. In addition, the permit holder is requesting to add adult and pup South American sea lions (Otaria flavescens) from which unlimited samples could be received, imported, or exported. No live animals would be harassed or taken, lethally or otherwise, under the requested amendment.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: August 5, 2011.
P. Michael Payne,
Chief, Permits, Conservation and Education Division, Office of Protected Resources, National Marine Fisheries Service.

[FR Doc. 2011-20458 Filed 8-10-11; 8:45 am]

BILLING CODE 3510-22-P